DEPARTMENT OF HEALTH AND HUMAN SERVICES

Office of Refugee Resettlement

Administration for Children and Families; Single-Source Program Expansion Supplement Grant

AGENCY: Office of Refugee Resettlement, ACF, HHS.

ACTION: Notice to award a single-source program expansion supplement grant.

CFDA Number: 93.576.

Legislative Authority: This program is authorized by section 412 (c)(1)(A) of the Immigration and Nationality Act (INA) [8 U.S.C. 1522 (c)(1)(A)], as amended, which authorizes the Director “to make grants to, and enter into contracts with, public or private nonprofit agencies for projects specifically designed—(i) To assist refugees in obtaining the skills which are necessary for economic self-sufficiency, including projects for job training, employment services, day care, professional refresher training, and other recertification services; (ii) to provide training in English where necessary (regardless of whether the refugees are employed or receiving cash or other assistance); and (iii) to provide where specific needs have been shown and recognized by the Director, health (including mental health) services, social services, educational and other services.”

Amount of Award: $150,000.

Project Period: December 1, 2009-September 29, 2010.

SUMMARY: The Office of Refugee Resettlement (ORR) announces the award of a $150,000 single-source program expansion supplement to expand the provision of technical assistance to the Ethiopian Community Development Council, Inc. (ECDC), located in Arlington, VA.

Current economic conditions have confronted community-based organizations (CBO) with a dire need for assistance yet limited resources to respond effectively. This supplemental award will support greater outreach and enhanced collaboration to meet these challenges.

Provision of technical assistance is essential to support the long-term sustainability of programs and services that help newly-arrived refugees secure employment, overcome language and cultural barriers, become economically self-sufficient, and integrate into their new communities.

Through this provision of technical assistance, ECDC will ensure a more effective service component by focusing on reducing social service gaps, increasing refugee access to mainstream resources and services, and helping CBOs build capacity and sustainability.

Contact for Further Information: Kenneth Tota, Deputy Director, Office of Refugee Resettlement, 901 D Street, SW., Washington, DC 20047. Telephone: 202-401-4858; e-mail: ktota@acf.hhs.gov.

Dated: April 28, 2010.
Eskinder Negash,
Director, Office of Refugee Resettlement.

[FR Doc. 2010-10809 Filed 5-6-10; 8:45 am]

BILLING CODE P